DEPARTMENT OF DEFENSE

Defense Logistics Agency

Privacy Act of 1974; Systems of Records

AGENCY: Defense Logistics Agency, DoD.

ACTION: Notice to amend systems of records.

SUMMARY: The Defense Logistics Agency proposes to amend a system of records notice in its inventory of record systems subject to the Privacy Act of 1974 (5 U.S.C. 552a), as amended.

DATES: This action will be effective without further notice on June 14, 2004, unless comments are received that would result in a contrary determination.

ADDRESSES: Send comments to the Privacy Act Officer, Headquarters, Defense Logistics Agency, ATTN: DSS-B, 8725 John J. Kingman Road, Stop 6220, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The Defense Logistics Agency proposes to amend a system of records notice in its inventory of record systems subject to the Privacy Act of 1974 (5 U.S.C. 552a), as amended. The amendment is not within the purview of subsection (r) of the Privacy Act of 1974 (5 U.S.C. 552a), as amended, which requires the submission of a new or altered system report.

Dated: May 7, 2004.
L.M. Bynum,
Alternate OSD Federal Register Liaison Officer, Department of Defense.

S333.10 DLA-G

System name:

Attorney Personal Information and Applicant Files (February 22, 1993, 58 FR 10854).

Changes:

System identifier:

Delete entry and replace with ‘S100.90.’

* * * * *

Authority for maintenance of the system:

Delete entry and replace with ‘5 U.S.C. 301, Departmental Regulations; 5 U.S.C. 302, Delegation of Authority; 5 U.S.C. 3301, Civil Service, Generally; 10 U.S.C. 136, Under Secretary of Defense for Personnel and Readiness; DoD Directive 1442.2, Personnel Actions Involving Civilian Attorneys; and E.O. 9397 (SSN).’

* * * * *

Routine uses of records maintained in the system, including categories of users and the purposes of such uses:

Delete the paragraph that starts with ‘Parts of these folders’.

* * * * *

Safeguards:

Delete entry and replace with ‘Records are maintained in controlled areas accessible only to authorized personnel who require access to perform official duties. Access to personal information is further restricted by the use of passwords, which are changed periodically. Records are secured in locked or guarded buildings, locked offices, or locked cabinets during non-duty hours.’

* * * * *

Retention and disposal:

Replace ‘Applicants’ with ‘Applications’.

* * * * *

S100.90

System name:

Attorney Personal Information and Applicant Files.

System location:

Office of General Counsel, HQ DLA, ATTN: DG, 8725 John J. Kingman Road, Stop 2533, Fort Belvoir, VA 22060-6221, and the offices of counsel of the DLA field activities. Official mailing addresses are published as an appendix to DLA's compilation of systems of records notices.

Categories of individuals covered by the system:

All DLA attorneys, former DLA attorneys, and applicants for DLA legal positions.

Categories of records in the system:

Cover letters, resumes, and Forms submitted by applicants and replies thereto, and records of promotions, courses completed, position descriptions, performance appraisals, personnel actions, educational actions, educational transcripts, recommendations and personal data of DLA attorneys.

Authority for maintenance of the system:

5 U.S.C. 301, Departmental Regulations; 5 U.S.C. 302, Delegation of Authority; 5 U.S.C. 3301, Civil Service, Generally; 10 U.S.C. 136, Under Secretary of Defense for Personnel and Readiness; DoD Directive 1442.2, Personnel Actions Involving Civilian Attorneys; and E.O. 9397 (SSN).

Purpose(s):

Applications are used for filing positions in all DLA legal offices. Attorney information folders are maintained for review incident to personnel actions including promotions, performance appraisals, reassignments, etc. and as a general performance and experience record.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of DLA's compilation of systems of records notices apply to this system.

Policies and practices for storing, retrieving, accessing, retaining, and disposing of records in the system:

Storage:

Records are maintained in paper and electronic form.

Retrievability:

Filed by surname of attorney or applicant.

Safeguards:

Attorney information folders are kept in a locked file cabinet; applicants are kept in file cabinets accessible only to authorized personnel of the Office of Counsel or as determined by Counsel.

Retention and disposal:

Applications are kept for one year from receipt. Attorney information folders are kept indefinitely.

System manager(s) and address:

Office of General Counsel, HQ DLA, ATTN: DG, 8725 John J. Kingman Road, Stop 2533, Fort Belvoir, VA 22060-6221.

Notification procedure:

Individuals seeking to determine whether this system of records contains information about themselves should address written inquiries to the Privacy Act Officer, HQ DLA, ATTN: DSS-B, 8725 John J. Kingman Road, Stop 6220, Fort Belvoir, VA 22060-6221, or the Privacy Act Officer of the particular DLA field activity where the application was filed. Official mailing addresses are published as an appendix to DLA's compilation of systems of records notices.

Individual must provide full name and, if known, date application was submitted.

Record access procedures:

Individuals seeking access to information about themselves contained in this system of records should address written inquiries to the Privacy Act Officer, HQ DLA, ATTN: DSS-B, 8725 John J. Kingman Road, Stop 6220, Fort Belvoir, VA 22060-6221, or the Privacy Act Officer of the particular DLA field activity where the application was filed. Officials mailing addresses are published as an appendix to DLA's compilation of systems of records notices.

Individual must provide full name and, if known, date application was submitted.

Contesting record procedures:

The DLA rules for accessing records, for contesting contents and appealing initial agency determinations are contained in 32 CFR part 323, or may be obtained from the Privacy Act Officer, Headquarters, Defense Logistics Agency, ATTN: DSS-B, 8725 John J. Kingman Road, Stop 6220, Fort Belvoir, VA 22060-6221.

Record source categories:

Applicants, employees, co-employees, outside references, supervisors, and personnel offices.

Exemptions claimed for the system:

None.

[FR Doc. 04-10826 Filed 5-12-04; 8:45 am]

BILLING CODE 5001-06-M